DEPARTMENT OF HEALTH AND HUMAN SERVICES

Health Resources and Services Administration

Agency Information Collection Activities: Proposed Collection: Public Comment Request; Information Collection Request Title: The National Health Service Corps and Nurse Corps Interest Capture Form—OMB No. 0915-0337—Revision

AGENCY: Health Resources and Services Administration (HRSA), Department of Health and Human Services.

ACTION: Notice.

SUMMARY: In compliance with the Paperwork Reduction Act of 1995 requirement for opportunity for public comment on proposed data collection projects, HRSA announces plans to submit an Information Collection Request (ICR), described below, to the Office of Management and Budget (OMB). Prior to submitting the ICR to OMB, HRSA seeks comments from the public regarding the burden estimate, below, or any other aspect of the ICR.

DATES: Comments on this ICR should be received no later than September 29, 2025.

ADDRESSES: Submit your comments to paperwork@hrsa.gov or mail the HRSA Information Collection Clearance Officer, Room 14NWH04, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: The National Health Service Corps and Nurse Corps Interest Capture Form OMB No. 0915-0337—Revision.

Abstract: HRSA's National Health Service Corps (NHSC) and the Nurse Corps Scholarship and Loan Repayment Programs are committed to improving the health of the nation's underserved by uniting communities in need with caring health professionals and by supporting communities' efforts to build better systems of care. The NHSC and Nurse Corps Interest Capture Form, which can be accessed on the HRSA website at https://bhw.hrsa.gov/about-us/ask-question, is an optional form that a health profession student, licensed clinician, faculty member, clinical site administrator, or other interested individual can complete and submit to HRSA online. The purpose of the form is to enable individuals and clinical sites to ask questions about the NHSC and/or Nurse Corps Scholarship and Loan Repayment Programs, and to provide their contact information so that HRSA may provide them with periodic program updates and other general information via email. Completed forms will contain information such as the names and roles of the individual(s), their phone number(s) and email address(es), and the HRSA program(s) in which they are interested or about which they have questions. The revisions in this ICR are as follows:

(a) An increase in the annualized information collection burden due to a higher number of respondents.

(b) The addition of an online version of the NHSC and Nurse Corps Interest Capture Form, located on the HRSA website at https://bhw.hrsa.gov/about-us/ask-question.

Need and Proposed Use of the Information: The need and purpose of this information collection is to share resources and information regarding the NHSC and Nurse Corps Scholarship and Loan Repayment Programs with interested HRSA website (https://www.hrsa.gov/) visitors.

Likely Respondents: Health profession students, licensed clinicians, faculty members, clinical site administrators or other individuals who are interested in learning more or have questions about NHSC and Nurse Corps Scholarship and Loan Repayment Programs.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours *
NHSC and Nurse Corps Interest Capture Form | 17,676 | 1 | 17,676 | 0.025 | 442
Total | 17,676 |  | 17,676 |  | 442
* Total Burden Hours are rounded up to the nearest whole number.

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2025-14398 Filed 7-29-25; 8:45 am]

BILLING CODE 4165-15-P